DEPARTMENT OF LABOR

29 CFR Part 21

Protection of Human Subjects

CFR Correction

This rule is being published by the Office of the Federal Register to correct an editorial or technical error that appeared in the most recent annual revision of the Code of Federal Regulations.

In Title 29 of the Code of Federal Regulations, Parts 0 to 99, revised as of July 1, 2021, in § 21.101, remove the heading from paragraph (l) and add a heading to paragraph (l)(1) to read as follows:

§ 21.101 To what does this policy apply?

* * * * *

(l) * * *

(1) Pre-2018 Requirements. * * *

* * * * *

[FR Doc. 2022-14237 Filed 6-30-22; 8:45 am]

BILLING CODE 0099-10-P